DEPARTMENT OF COMMERCE

Foreign-Trade Zones Board

[Order No. 1432]

Grant Of Authority For Subzone Status, Abbott Pharmaceuticals PR LTD. (APPR)/Abbott Diagnostics International Ltd. (formerly Abbott Health Products, Inc.)/Abbott Biotechnology LTD (ABL), (Pharmaceutical Products), Barceloneta, Puerto Rico

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Puerto Rico Industrial Development Corporation, grantee of FTZ 7, has made application to the Board for authority to establish special-purpose subzone status at the pharmaceutical intermediate manufacturing plant of Abbott Pharmaceuticals PR LTD. (APPR), Abbott Diagnostics International Ltd. (formerly Abbott Health Products, Inc.), and Abbott Biotechnology LTD (ABL), located in Barceloneta, Puerto Rico (FTZ Docket 23-2005, filed 5-17-05);

Whereas, notice inviting public comment has been given in the Federal Register (70 FR 30080, 5/25/05); and,

Whereas, the Board adopts the findings and recommendations of the examiner's report, and finds that the requirements of the FTZ Act and the Board's regulations are satisfied, and that approval of the application is in the public interest;

Now, therefore, the Board hereby grants authority for subzone status for activity related to pharmaceutical products at the manufacturing complex of Abbott Pharmaceuticals PR LTD. (APPR), Abbott Diagnostics International Ltd. (formerly Abbott Health Products, Inc.), and Abbott Biotechnology LTD (ABL), located in Barceloneta, Puerto Rico (Subzone 7I), as described in the application and Federal Register notice, and subject to the FTZ Act and the Board's regulations, including § 400.28.

Signed at Washington, DC, this 23rd day of December 2005.

Stephen J. Claeys,
Acting Assistant Secretary of Commerce for Import Administration, Alternate Chairman Foreign-Trade Zones Board
Attest:
Dennis Puccinelli,
Executive Secretary.

[FR Doc. E6-164 Filed 1-10-06; 8:45 am]

BILLING CODE 3510-DS-S